CONSUMER PRODUCT SAFETY COMMISSION

Proposed Extension of Approval of Information Collection; Comment Request—Baby Bouncers, Walker-Jumpers, and Baby-Walkers

AGENCY: Consumer Product Safety Commission.

ACTION: Notice.

SUMMARY: As required by the Paperwork Reduction Act of 1995 (44 U.S.C. Chapter 35), the Consumer Product Safety Commission (Commission) requests comments on a proposed extension of approval, for a period of three years from the date of approval by the Office of Management and Budget (OMB), of information collection requirements for manufacturers and importers of children's articles known as baby-bouncers, walker-jumpers, or baby-walkers. The collection of information consists of requirements that manufacturers and importers of these products must make, keep and maintain records of inspections, testing, sales, and distributions consistent with the provisions of the Federal Hazardous Substances Act, 15 U.S.C. 1261, 1262, and 16 CFR Part 1500.

The CPSC will consider all comments received in response to this notice before requesting approval of this collection of information from OMB.

DATES: The Office of the Secretary must receive written comments not later than June 15, 2009.

ADDRESSES: Written comments should be captioned “Baby-Bouncers” and sent by e-mail to cpsc-os@cpsc.gov. Comments may also be sent by facsimile to (301) 504-0127, or by mail to the Office of the Secretary, Consumer Product Safety Commission, 4330 East West Highway, Bethesda, Maryland 20814. cpsc-os@cpsc.gov.

FOR FURTHER INFORMATION CONTACT: For information about the proposed collection of information call or write Linda Glatz, Division of Policy and Planning, Office of Information Technology and Technology Services, Consumer Product Safety Commission, 4330 East West Highway, Bethesda, MD 20814; telephone: (301) 504-7671 or by e-mail to lglatz@cpsc.gov.

SUPPLEMENTARY INFORMATION: Regulations issued under provisions of the Federal Hazardous Substances Act (15 U.S.C. 1261, 1262), codified at 16 CFR Part 1500, establish safety requirements for products called “baby-bouncers,” “walker-jumpers,” or “baby-walkers.”

A. Requirements for Baby-Bouncers, Walker-Jumpers, and Baby Walkers

One CPSC regulation bans any product known as a baby-bouncer, walker-jumper, baby-walker or similar article if it is designed in such a way that exposed parts present hazards of amputations, crushing, lacerations, fractures, hematomas, bruises or other injuries to children's fingers, toes, or other parts of the body. 16 CFR 1500.18(a)(6).

A second CPSC regulation establishes criteria for exempting baby-bouncers, walker-jumpers, and baby-walkers from the banning rule under specified conditions. 16 CFR 1500.86(a)(4). The exemption regulation requires certain labeling on these products and their packaging to identify the name and address of the manufacturer or distributor and the model number of the product. Additionally, the exemption regulation requires that records must be established and maintained for three years relating to testing, inspection, sales, and distributions of these products. The regulation does not specify a particular form or format for the records. Manufacturers and importers may rely on records kept in the ordinary course of business to satisfy the recordkeeping requirements if those records contain the required information.

If a manufacturer or importer distributes products that violate the banning rule, the records required by section 1500.86(a)(4) can be used by the manufacturer or importer and the CPSC (i) to identify specific models of products that fail to comply with applicable requirements, and (ii) to notify distributors and retailers if the products are subject to recall.

The OMB approved the collection of information requirements in the regulations under control number 3041-0019. OMB's most recent extension of approval expires on June 30, 2009. The CPSC now proposes to request an extension of approval without change for the collection of information requirements.

B. Estimated Burden

The CPSC staff estimates that about 34 firms are subject to the testing and recordkeeping requirements of the regulations. Firms are expected to test on the average two new models per year per firm. The CPSC staff estimates further that the burden imposed by the regulations on each of these firms is approximately 1 hour per year on the recordkeeping requirements and 30 minutes or less per model on the label requirements. Thus, the annual burden imposed by the regulations on all manufacturers and importers is approximately 68 hours on recordkeeping (34 firms × 2 hours) and 34 hours on labeling (34 firms × 1 hour) for a total annual burden of 102 hours per year.

The CPSC staff estimates that the hourly wage for the time required to perform the required testing and recordkeeping is approximately $54.88 (Bureau of Labor Statistics, All workers, goods-producing industries, management, professional and related September 2008), and the hourly wage for the time required to maintain the labeling requirements is approximately $27.14 (Bureau of Labor Statistics, All workers, goods-producing industries, sales and office September 2008). The annualized total cost to the industry is estimated to be $4,654.60 (68 hours × $54.88 plus 34 hours × $27.14).

The Commission will expend approximately two days of professional staff time reviewing records required to be maintained by the regulations for baby-bouncers, walker-jumpers, and baby-walkers. The annual cost to the Federal government of the collection of information in these regulations is estimated to be $1,277.51.

C. Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Dated: April 10, 2009.
Todd A. Stevenson,
Secretary, Consumer Product Safety Commission.

[FR Doc. E9-8713 Filed 4-15-09; 8:45 am]

BILLING CODE 6355-01-P